Proclamation 10171 of March 31, 2021

Second Chance Month, 2021

By the President of the United States of America

A Proclamation

America's criminal justice system must offer meaningful opportunities for redemption and rehabilitation. After incarcerated individuals serve their time, they should have the opportunity to fully reintegrate into society. It benefits not just those individuals but all of society, and it is the best strategy to reduce recidivism. During Second Chance Month, we lift up all those who, having made mistakes, are committed to rejoining society and making meaningful contributions.

My Administration is committed to a holistic approach to building safe and healthy communities. This includes preventing crime and providing opportunities for all Americans. It also requires rethinking the existing criminal justice system—whom we send to prison and for how long; how people are treated while incarcerated; how prepared they are to reenter society once they have served their time; and the racial inequities that lead to the disproportionate number of incarcerated Black and Brown people.

We must commit to second chances from the earliest stages of our criminal justice system. Supporting second chances means, for example, diverting individuals who have used illegal drugs to drug court programs and treatment instead of prison. It requires eliminating exceedingly long sentences and mandatory minimums that keep people incarcerated longer than they should be. It means providing quality job training and educational opportunities during incarceration to prepare individuals for the 21st century economy. And it means reinvesting the savings from reduced incarceration into reentry programs and social services that prevent recidivism and leave us all better off.

More than 600,000 individuals return to their communities from State and Federal prisons every year. Transitioning back into society can be overwhelming for those who are formerly incarcerated as well as their families and communities. Too many individuals face unfair legal and practical barriers to reentry. The reentry process is complicated in the best of times, and is even more so with the additional difficulties presented by the COVID-19 pandemic.

We must remove these barriers. Every person leaving incarceration should have housing, the opportunity at a decent job, and health care. A person's conviction history should not unfairly exclude them from employment, occupational licenses, access to credit, public benefits, or the right to vote. Certain criminal records should be expunged and sealed so people can overcome their past.

By focusing on prevention, reentry, and social support, rather than incarceration, we can ensure that America is a land of second chances and opportunity for all people.

NOW, THEREFORE, I, JOSEPH R. BIDEN JR., President of the United States of America, by virtue of the authority vested in me by the Constitution and the laws of the United States, do hereby proclaim April 2021 as Second Chance Month. I call upon all government officials, educators, volunteers, and all the people of the United States to observe this day with appropriate programs, ceremonies, and activities.

IN WITNESS WHEREOF, I have hereunto set my hand this thirty-first day of March, in the year of our Lord two thousand twenty-one, and of the Independence of the United States of America the two hundred and forty-fifth.

[FR Doc. 2021-07179

Filed 4-5-21; 8:45 am]

Billing code 3295-F1-P